DEPARTMENT OF DEFENSE

Office of the Secretary

[Transmittal No. 23-03]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 23-03, Policy Justification, and Sensitivity of Technology.

Dated: August 16, 2024.
Aaron T. Siegel,
Alternate OSD Federal Register Liaison Officer, Department of Defense.

BILLING CODE 6001-FR-P

BILLING CODE 6001-FR-C

Transmittal No. 23-03

Notice of Proposed Issuance of Letter of Offer Pursuant to Section 36(b)(1) of the Arms Export Control Act, as amended

(i) Prospective Purchaser: Government of Singapore

(ii) Total Estimated Value:

Major Defense Equipment * | $37 million
Other | $18 million
Total | $55 million

Funding Source: National Funds

(iii) Description and Quantities of Articles or Services under Consideration for Purchase:

Major Defense Equipment (MDE):

One hundred (100) KMU-556 Tail Kits for Joint Direct-Attack Munition (JDAM) GBU-31

Nine hundred (900) KMU-572 Tail Kits for JDAM GBU-38 and Laser JDAM GBU-54

Two hundred fifty (250) MAU-169 Computer Control Group for 500lb Paveway II (PWII) GBU-12

Two hundred fifty (250) MXU-650 Air Foil Group for 500lb PWII GBU-12

Non-MDE:

Also included are DSU-38 laser guidance sets; Common Munitions Built-In-Test/Reprogramming Equipment; spare parts, consumables, accessories, and repair and return support; aircraft and munitions support and support equipment; personnel training and training equipment; unclassified software; unclassified technical books and other publications; U.S. Government and contractor engineering, technical and logistics support services, studies and surveys; and other related elements of logistical and program support.

(iv) Military Department: Air Force (SN-D-YAJ)

(v) Prior Related Cases, if any: SN-D-YAH

(vi) Sales Commission, Fee, etc., Paid, Offered, or Agreed to be Paid: None known at this time

(vii) Sensitivity of Technology Contained in the Defense Article or Defense Services Proposed to be Sold: See Attached Annex

(viii) Date Report Delivered to Congress: February 9, 2023

* As defined in Section 47(6) of the Arms Export Control Act.

POLICY JUSTIFICATION

Singapore—Air-to-Ground Munitions Kits and Services

The Government of Singapore has requested to buy one hundred (100) KMU-556 Tail Kits for Joint Direct-Attack Munition (JDAM) GBU-31; nine hundred (900) KMU-572 Tail Kits for JDAM GBU-38 and Laser JDAM GBU-54; two hundred fifty (250) MAU-169 Computer Control Group for 500lb Pave way-II (PWII) GBU-12; and two hundred fifty (250) MXU-650 Air Foil Group for 500lb PWII GBU-12. Also included are DSU-38 laser guidance sets; Common Munitions Built-In-Test/Reprogramming Equipment; spare parts, consumables, accessories, and repair and return support; aircraft and munitions support and support equipment; personnel training and training equipment; unclassified software; unclassified technical books and other publications; U.S. Government and contractor engineering, technical and logistics support services, studies and surveys; and other related elements of logistical and program support. The estimated total cost is $55 million.

This proposed sale will support the foreign policy and national security objectives of the United States by improving the security of a strategic partner that is an important force for political stability and economic progress in Asia.

The proposed sale will support the Republic of Singapore Air Force's capability to contribute to coalition operations and meet its national defense requirements. Singapore will have no difficulty absorbing these articles and services into its armed forces.

This proposed sale will not alter the basic military balance in the region.

The principal contractor will be Raytheon Missile and Defense, Tucson, AZ. A portion of the defense articles is anticipated to come from U.S. Government stock. There are no known offset agreements proposed in connection with this sale.

Implementation of this proposed sale will not require the assignment of any additional U.S. Government or contractor representatives to Singapore.

There will be no adverse impact on U.S. defense readiness as a result of this proposed sale.

Transmittal No. 23-03

Notice of Proposed Issuance of Letter of Offer Pursuant to Section 36(b)(1) of the Arms Export Control Act

Annex

Item No. vii

(vii) Sensitivity of Technology:

1. The Pave way II (PWII) is a maneuverable, free-fall Laser Guided Bomb (LGB) that guides to a spot of laser energy reflected off the target. The LGB is delivered like a normal general purpose (GP) warhead, and the semi-active laser guidance corrects many of the normal errors inherent in any delivery system. Laser designation can be provided by a variety of laser target markers or designators. An LGB consists of a non-warhead-specific MAU-209 or MAU-169 Computer Control Group (CCG) and a warhead-specific Air Foil Group (AFG) that attaches to the nose and tail of the GP bomb body.

The GBU-12 is a 500lb GP bomb body fitted with the MXU-650 AFG to guide it to laser-designated targets.

2. Joint Direct-Attack Munitions (JDAM) consist of a bomb body paired with a warhead-specific tail kit containing an Inertial Navigation System (INS)/Global Positioning System (GPS) guidance capability that converts unguided free-fall bombs into accurate, adverse weather “smart” munitions. The JDAM weapon can be delivered from modest standoff ranges at high or low altitudes against a variety of land and surface targets during the day or night. The JDAM is capable of receiving target coordinates via preplanned mission data from the delivery aircraft, by onboard aircraft sensors (i.e., FLIR, radar, etc.) during captive carry, or from a third-party source via manual or automated aircrew cockpit entry.

a. The GBU-38 is a 500lb JDAM, consisting of a KMU-572 tail kit and BLU-111 or MK-82 bomb body.

b. The GBU-31 is a 2,000lb JDAM, consisting of a KMU-556 tail kit and BLU-109 or MK-84 bomb body.

c. The GBU-54 Laser Joint Direct Attack Munition (LJDAM) is a 500lb JDAM that incorporates all the capabilities of the JDAM guidance tail kit and adds a precision laser guidance set. The LJDAM gives the weapon system an optional semi-active laser guidance in addition to the INS/GPS guidance. This provides the optional capability to strike moving targets. The GBU-54 consists of a DSU-38 laser guidance set, KMU-572 tail kit, and MK-82 or BLU-111 bomb body.

3. The Common Munitions Built-In-Test (BIT)/Reprogramming Equipment (CMBRE) is supporting equipment used to interface with weapon systems to initiate and report Built-in-Test (BIT) results and upload/download flight software. The CMBRE supports multiple munitions platforms with a range of applications that perform preflight checks, periodic maintenance checks, loading of Operational Flight Program data, loading of munitions mission planning data, loading of GPS cryptographic keys, and declassification of munitions memory.

4. The highest level of classification of defense articles, components, and services included in this potential sale is SECRET.

5. If a technologically advanced adversary were to obtain knowledge of the specific hardware and software elements, the information could be used to develop countermeasures that might reduce weapon system effectiveness or be used in the development of a system with similar or advanced capabilities.

6. A determination has been made that Singapore can provide substantially the same degree of protection for the sensitive technology being released as the U.S. Government. This sale is necessary in furtherance of the U.S. foreign policy and national security objectives outlined in the Policy Justification.

7. All defense articles and services listed in this transmittal have been authorized for release and export to the Government of Singapore.

[FR Doc. 2024-19127 Filed 8-23-24; 8:45 am]

BILLING CODE 6001-FR-P